DEPARTMENT OF JUSTICE

Antitrust Division

Notice Pursuant to the National Cooperative Research and Production Act of 1993—Dynamic Spectrum Alliance, Inc.

Notice is hereby given that, on January 16, 2025, pursuant to section 6(a) of the National Cooperative Research and Production Act of 1993, 15 U.S.C. 4301 et seq. (“the Act”), Dynamic Spectrum Alliance, Inc. has filed written notifications simultaneously with the Attorney General and the Federal Trade Commission disclosing changes in its membership. The notifications were filed for the purpose of extending the Act's provisions limiting the recovery of antitrust plaintiffs to actual damages under specified circumstances. Specifically, Federated Wireless, Inc., Arlington, VA; and internet Society, Reston, VA, have withdrawn as parties to this venture.

No other changes have been made in either the membership or planned activity of the group research project. Membership in this group research project remains open, and Dynamic Spectrum Alliance, Inc. intends to file additional written notifications disclosing all changes in membership.

On September 1, 2020, Dynamic Spectrum Alliance, Inc. filed its original notification pursuant to section 6(a) of the Act. The Department of Justice published a notice in the Federal Register pursuant to section 6(b) of the Act on September 18, 2020 (85 FR 58390).

The last notification was filed with the Department on January 27, 2023. A notice was published in the Federal Register pursuant to section 6(b) of the Act on March 27, 2023 (88 FR 18183).

Suzanne Morris,
Deputy Director Civil Enforcement Operations, Antitrust Division.

[FR Doc. 2025-03222 Filed 2-27-25; 8:45 am]

BILLING CODE P